DEPARTMENT OF TRANSPORTATION

Federal Aviation Administration

[Docket No. FAA-2013-0265]

Policy for Discontinuance of Certain Instrument Approach Procedures

AGENCY: Federal Aviation Administration (FAA), DOT.

ACTION: Notice of policy; disposition of comments.

SUMMARY: This action adopts with minor modification, the policy proposed in the Federal Register on August 2, 2013. Under this policy, the FAA establishes the criteria to identify certain non-directional beacon (NDB) and very high frequency (VHF) omnidirectional radio range (VOR) instrument approach procedures that can be considered for cancellation. Additionally, the FAA responds to comments received during the comment period on the notice of proposed policy.

FOR FURTHER INFORMATION CONTACT: For questions concerning this action, contact Wayne Eckenrode, Aeronautical Navigation Products, AJV-3, Instrument Flight Procedures Efficiency Group, Manager, Federal Aviation Administration, Air Traffic Organization, 4500 Mercantile Plaza Drive, Fort Worth, TX 76137; telephone (202) 494-8898, email AMC-ATO-IFP-Cancellations@faa.gov.

Background

Right-sizing the National Airspace System (NAS) is an integral part of the FAA's commitment to deliver the benefits of the Next Generation Air Transportation System (NextGen) through enhanced technology, enhanced capabilities, and more efficient, streamlined services. Focus on improvements in satellite-based navigation based on Global Positioning System (GPS) technology has facilitated the implementation of a large number of Performance Based Navigation (PBN) Instrument Approach Procedures (IAPs) into the NAS. These PBN procedures charted as RNAV (GPS) and RNAV (RNP) IAPs, improve the safety and efficiency of the NAS by providing more precise, repeatable flight paths to the runway. The total number of procedures in the NAS has nearly doubled over the past decade, as legacy procedures based on older, ground-based technology, are maintained alongside the newer, satellite-based procedures. In some cases, the older procedures are redundant or obsolete, and maintaining them unnecessarily increases FAA costs, as well as creates the need for air traffic controllers to train and be proficient on procedures that are not used or needed. Pilots must also maintain proficiency on these procedures and, in some cases, memory limitations in the Flight Management Systems (FMSs) in their aircraft result in the inability to load all the data needed to support the procedures. Removing certain redundant or underutilized IAPs will increase the safety and efficiency of the NAS by streamlining user access and FAA services, allowing the FAA to focus on delivering greater benefits through new technology.

In September 2010, the FAA awarded a grant to the Flight Safety Foundation, to research and provide independent insight on how the FAA should eliminate redundant or underutilized Instrument Approach Procedures (IAPs). The Flight Safety Foundation's study and recommendations were developed based on interviews and surveys of FAA personnel, and key airspace stakeholders. Among those interviewed were, Aircraft Owners and Pilots Association (AOPA), Air Line Pilots Association, International (ALPA), Air Transport Association (ATA), National Business Aviation Association (NBAA), Regional Airline Association (RAA), and the U.S. Air Force. The study formed the basis for the notice of proposed policy and request for comment (78 FR 47048) published in the Federal Register on August 2, 2013. The notice sought comments on the proposed criteria the FAA would utilize to determine which NDB and VOR IAPs could be considered for cancellation.

Summary of Comments

The FAA received a total of 14 comments from individuals, the Department of Defense (DoD), AOPA, the Maryland Aviation Administration, the Wahoo Airport Authority, and SkyWest Airlines.

Several of the comments received concerned the ability to train pilots on NDB or VOR IAPs if the ground-based procedures at an airport were cancelled. AOPA asserted that most flight instructors and pilots rely very heavily on ground-based navigational aids for initial and recurrent instrument flight training activities.

This policy will not reduce the ability to train pilots on NDB or VOR IAPs. Under this adopted policy, one existing ground-based IAP procedure will remain at each airport under this policy.

Three commenters were concerned with aircraft operations at an airport during periods of inclement weather if the ground-based procedure to a particular runway was cancelled. AOPA stated that consideration needs to be given to the individual airport operation and if there is a predominant or exclusive general aviation runway at a particular airport, the procedure offering the lowest approach minimums may not provide the greatest access. Based on this situation, AOPA asserted that it may be necessary to preserve the IAP to the general aviation runway for use during instrument training in visual meteorological conditions.

The criteria adopted in this notice ensure that an airport does not lose IAP capability to any runway that already has a published IAP. Additionally, the FAA will consider runway usage and local weather conditions when identifying candidate IAPs for cancellation.

Several commenters questioned whether the FAA will consider community needs for goods and emergency services at certain locations with limited access.

The adopted criteria ensure that at least one RNAV IAP and one ground based IAP will remain published at airports that already have them.

Individuals, AOPA, Wahoo Airport Authority, Maryland Aviation Administration, and SkyWest Airlines, submitted general comments concerning the decommissioning or discontinuance of NDBs and/or VORs.

The decommissioning or discontinuance of NDBs or VORs is beyond the scope of this action. The implementation of this policy will not decommission or discontinue the use of any facility, including NDBs and VORs. The purpose of this policy is to appropriately identify IAPs that can be cancelled.

The DoD commented that the FAA should explore additional methods to reduce costs of maintaining IAPs. The DoD stated that other methods to reduce costs may exist such as reducing the costs of flight checks which form a significant portion of the IAP maintenance costs.

The FAA will continue to examine ways to reduce operating costs associated with the maintenance of IFPs including reduction in flight check costs.

Many commenters expressed concern with GPS signal interruption, which emphasized, in their view, the need for redundant ground-based IAPs. Commenters also noted some geographic areas in the NAS incur GPS signal interference more regularly than others due to U.S. Government testing.

Under this policy, the FAA will ensure that at least one ground based IAP will remain at each airport.

The FAA agrees that the adopted criteria must also consider GPS signal interference. Therefore, the FAA modifies this policy and adds the following as a factor to be considered: “Airports located within an area routinely affected by GPS signal interference testing.”

The DoD stated that if IAPs at a civil airport are extensively utilized by military aircraft for training and/or proficiency, these IAPs should be retained. Additionally, the DoD suggested that DoD facilities should be added to the list of airports that are not considered for NDB or VOR IAP cancellations.

While this policy will not add DoD facilities to the list of airports that are not considered for NDB and VOR IAP cancellation, the FAA agrees to modify the policy so that IAPs used extensively by military aircraft for training and/or proficiency will remain in the National Airspace System.

Policy

After review and evaluation of the public comments received on the policy proposed in the Federal Register on August 2, 2013 (FAA-2013-0265), the FAA adopts the criteria for selecting potential IAPs for cancellation as proposed with two modifications based on the comments received. FAA adds the following to the list of consideration factors: “Airports located within an area routinely affected by GPS signal interference testing” and “Extensive use by the military for training and/or proficiency.”

The NDB and VOR IAPs recommended for cancellation will be selected at airports using the adopted criteria. FAA notes that all airports having existing RNAV and ground-based IAPs will maintain at least one RNAV and one ground-based IAP under this initiative.

Instrument Approach Procedures are incorporated by reference into Title 14 of the Code of Federal Regulations part 97, subpart C, and are promulgated by rulemaking procedures. Once the FAA identifies IAPs that may be cancelled in accordance with the adopted policy noted above, the FAA will follow standard rulemaking procedures including a Notice of Proposed Rulemaking in the Federal Register containing the list of NDB and VOR IAPs recommended for cancellation. The FAA will consider all public comments before issuing a Final Rule removing selected IAPs.

Airports considered for NDB or VOR IAP cancellation:

—All airports with an NDB IAP.

—All airports with a VOR/DME RNAV IAP, unless it is the only IAP at the airport.

—All airports with two or more ground-based IAPs and an RNAV IAP.

—All airports with multiple, redundant ground-based IAPs (e.g., three VOR procedures).

Additional factors for consideration in determining the list of potential candidates for NDB or VOR IAP cancellation:

—Prevailing wind runways.

—Prevailing runway alignment during adverse weather operations.

—Runways with a published ILS IAP and a ground-based IAP.

—For runways with multiple VOR and NDB IAPs consider IAPs with the lowest minimums (if minimums are within 20 feet of each other), and IAPs that allow for optimum use by all users.

—Airports located within an area routinely affected by GPS signal interference testing

—Extensive use by the military for training and/or proficiency.

Airports not considered for NDB or VOR IAP cancellations:

—Airports with only RNAV/RNP IAPs published.

—Airports with only one ground-based procedure.

—Airports will not be considered if cancellation would result in removing all IAPs from the airport.

Issued in Washington, DC, on June 19, 2014.
Abigail Smith,
Director, Aeronautical Navigation Products.

[FR Doc. 2014-14913 Filed 6-26-14; 8:45 am]

BILLING CODE 4910-13-P